DEPARTMENT OF ENERGY

Federal Energy Regulatory Commission

[Project Nos. 1175-015; 1290-012]

Appalachian Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major Licenses.

b. Project Nos.: 1175-015 and 1290-012.

c. Date filed: January 31, 2012.

d. Applicant: Appalachian Power Company.

e. Name of Project: London-Marmet and Winfield Hydroelectric Projects.

f. Location: The existing projects are located on the Kanawha River. The London/Marmet Project is located in Fayette and Kanawha Counties, West Virginia, and the Winfield Project is located in Kanawha and Putnam Counties, West Virginia. The London/Marmet and Winfield Projects would occupy 11.71 and 8.25 acres, respectively, of federal land managed by the U.S. Army Corp of Engineers.

g. Filed Pursuant to: Federal Power Act 16 U.S.C. 791 (a)-825(r).

h. Applicant Contact: Harold G. Slone, Manager, Appalachian Power Company, 40 Franklin Road, Roanoke, VA 24011; Telephone (540) 985-2861.

i. FERC Contact: Brandi Sangunett, (202) 502-8393 or brandi.sangunett@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project works consists of the following:

The London-Marmet Project consists of two developments. The existing London Development utilizes the head created by the Army Corps of Engineers' (Corps) 26-foot-high London Dam located at river mile (RM) 82.8 on the Kanawha River and consists of: (1) A forebay area protected by a log boom; (2) screened intake structures; (3) a concrete powerhouse containing three turbine-generator units with a total installed capacity of 14.4 megawatts (MW); (4) a tailrace 420 feet long; (5) two 0.38-mile-long, 46-kilovolt (kV) transmission lines; and (6) other appurtenances. The development generates about 84,048 megawatt-hours (MWh) annually.

The existing Marmet Development utilizes the head created by the Corps' 34-foot-high Marmet Dam located at RM 67.7 on the Kanawha River and consists of: (1) A forebay area protected by a log boom; (2) screened intake structures; (3) a concrete powerhouse containing three turbine-generator units with a total installed capacity of 14.4 MW; (4) a tailrace 450 feet long (5) one 0.82-mile-long, 46-kV transmission line and one 0.98-mile-long, 46-kV transmission line; and (6) other appurtenances. The development generates about 82,302 MWh annually. The London/Marmet Project has a total installed capacity of 28.8 MW and generates about 166,350 MWh annually

The existing Winfield Project utilizes the head created by the Corps' 38-foot-high Winfield Dam located at RM 31.1 on the Kanawha River and consists of: (1) A forebay area protected by a 410-foot-long log boom; (2) screened intake structures; (3) a concrete powerhouse containing three turbine-generator units with a total installed capacity of 14.76 MW; (4) a tailrace 410 feet long; and (5) other appurtenances. The project generates about 114,090 MWh annually.

The above hydroelectric facilities' operation is synchronized with the operation of the Corps' locks at each dam. The developments at each of the two projects operate within allowable pool elevation limits as established by the Corps. The London pool elevation is allowed to fluctuate between 611.0 feet and 614.0 feet National Geodetic Vertical Datum 1929 (NGVD). The Marmet pool elevation is allowed to fluctuate between 589.7 feet and 590.0 feet NGVD. The Winfield pool elevation is allowed to fluctuate between 565.8 feet and 566.0 feet NGVD. All three pools can be drawn down at a maximum rate of 0.5 feet per hour. When stream flow exceeds the maximum turbine discharge, the responsibility for control of the pool elevations passes to the Corps' personnel and the projects operate in run-of-release mode. Appalachian is proposing to modify the maximum pool elevation limit at the London Development from 614.0 feet to 613.7 feet NGVD.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Notice of Ready for Environmental Analysis | June 8, 2012.
Filing of recommendations, preliminary terms and conditions, and fishway prescriptions | August 7, 2012.
Commission issues Non-Draft EA | October 21, 2012.
Comments on EA | November 20, 2012.
Modified terms and conditions | January 19, 2013.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Dated: June 8, 2012.
Kimberly D. Bose,
Secretary.

[FR Doc. 2012-14616 Filed 6-14-12; 8:45 am]

BILLING CODE 6717-01-P